DEPARTMENT OF ENERGY

Federal Energy Regulatory Commission

Combined Notice of Filings #1

Take notice that the Commission received the following electric corporate filings:

Docket Numbers: EC15-156-000.

Applicants: American Transmission Company LLC.

Description: Application of American Transmission Company LLC for Authority to Acquire Certain Facilities under Section 203 of the Federal Power Act.

Filed Date: 6/12/15.

Accession Number: 20150612-5253.

Comments Due: 5 p.m. ET 7/6/15.

Take notice that the Commission received the following exempt wholesale generator filings:

Docket Numbers: EG15-95-000.

Applicants: Blue Sky West, LLC.

Description: Notice of Self-Certification of Exempt Wholesale Generator Status of Blue Sky West, LLC.

Filed Date: 6/11/15.

Accession Number: 20150611-5238.

Comments Due: 5 p.m. ET 7/2/15.

Take notice that the Commission received the following electric rate filings:

Docket Numbers: ER11-3576-011; ER11-3401-010.

Applicants: Golden Spread Electric Cooperative, Inc., Golden Spread Panhandle Wind Ranch, LLC.

Description: Notice of Non-material Change in Status of Golden Spread Electric Cooperative, Inc.

Filed Date: 6/12/15.

Accession Number: 20150612-5254.

Comments Due: 5 p.m. ET 7/6/15.

Docket Numbers: ER15-1913-000..

Applicants: Ameren Illinois Company

Description: Section 205(d) Rate Filing: Cancellation of Rate Schedule 106 to be effective 3/30/2015.

Filed Date: 6/12/15.

Accession Number: 20150612-5228.

Comments Due: 5 p.m. ET 7/6/15.

Docket Numbers: ER15-1914-000.

Applicants: 87RL 8me LLC.

Description: Baseline eTariff Filing: 87RL 8me LLC MBR Tariff to be effective 8/1/2015.

Filed Date: 6/12/15.

Accession Number: 20150612-5229.

Comments Due: 5 p.m. ET 7/6/15.

Docket Numbers: ER15-1915-000.

Applicants: Clean Energy Future—Lordstown, LLC.

Description: Request for Limited Waiver of Clean Energy Future—Lordstown, LLC.

Filed Date: 6/12/15.

Accession Number: 20150612-5252.

Comments Due: 5 p.m. ET 7/6/15.

Take notice that the Commission received the following electric securities filings:

Docket Numbers: ES15-34-000.

Applicants: Central Maine Power Company.

Description: Application for Authorization to Issue Short-term Debt Instruments of Central Maine Power Company.

Filed Date: 6/12/15.

Accession Number: 20150612-5255.

Comments Due: 5 p.m. ET 7/6/15.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: June 15, 2015.
Kimberly D. Bose,
Secretary.

[FR Doc. 2015-15103 Filed 6-18-15; 8:45 am]

BILLING CODE 6717-01-P